NATIONAL SCIENCE FOUNDATION

Special Emphasis Panel in Civil and Mechanical Systems; Notice of Meeting

In accordance with the Federal Advisory Committee Act (Pub. L. 92-463, as amended), the National Science Foundation announces the following meeting:

Name: Special Emphasis Panel in Civil and Mechanical Systems

Date and Time: January 24, 2001, 8 a.m. to 5 p.m.

Place: NSF, 4201 Wilson Boulevard, Room 530, Arlington, Virginia 22230.

Type of Meeting: Closed.

Contact Person: Dr. Alison Flatau, Program Director, Dynamic Systems and Control, Sensor Technologies for Civil and Mechanical Systems, Room 545, (703) 292-8360.

Purpose of Meeting: To provide advice and recommendations concerning Individual Investigator Award proposals submitted to NSF for financial support.

Agenda: To review and evaluate nominations for the FY'01 Sensor Technologies for Civil and Mechanical Systems Individual Investigator Award Review Panel proposals as part of the selection process for awards.

Reason for Closing: The proposals being reviewed include information of a proprietary or confidential nature, including technical information; financial data, such as salaries and personal information concerning individuals associated with the proposals.

These matters are exempt under 5 U.S.C. 552b(c)(4) and (6) of the Government in the Sunshine Act.

Dated: November 28, 2000.
Karen J. York,
Committee Management Officer.

[FR Doc. 00-31488 Filed 12-11-00; 8:45 am]

BILLING CODE 7555-01-M